DEPARTMENT OF VETERANS AFFAIRS

Notice of Availability of a Supplemental Draft Environmental Impact Statement for the San Francisco VA Medical Center Long Range Development Plan

AGENCY: Department of Veterans Affairs.

ACTION: Notice of availability.

SUMMARY: The Department of Veterans Affairs (VA), San Francisco VA Medical Center (SFVAMC) announces the availability of the Supplemental Draft Environmental Impact Statement (SDEIS) for the Long Range Development Plan (LRDP), for public comment pursuant to the National Environmental Policy Act (NEPA) of 1969, as amended (42 U.S.C. 4331 et seq.), the Council on Environmental Quality Regulations for Implementing the Procedural Requirements of NEPA (40 CFR parts 1500-1508), VA's implementing Regulations (38 CFR part 26), as well as the settlement agreement resulting from Planning Association for the Richmond, et al v. U.S. Department of Veterans Affairs, C-06-02321-SBA (filed 6 June 2008). VA supplemented the draft EIS originally released in August 2012 to account for design and project phasing changes from the LRDP released in 2012 to the LRDP released in 2014. Both versions of the LRDP describe development and construction of patient care buildings, research buildings, business occupancy buildings, and parking structures, as well as retrofitting seismically deficient buildings. The SDEIS identifies and addresses environmental impacts associated with the Proposed Action.

DATES: Interested parties are invited to submit comments in writing on the SFVAMC SDEIS by May 8, 2015. In preparing the SDEIS the SFVAMC will consider all comments received or postmarked by that date. Comments received after that date will be considered to the extent practicable. Interested parties are also invited to participate in a public meeting regarding the SFVAMC SDEIS on April 14, 2015 at SFVAMC (4150 Clement Street, San Francisco, CA 94121, Building 7, 1st floor, Auditorium) at 5 p.m.

ADDRESSES: Submit written comments on the SFVAMC SDEIS through www.regulations.gov. Please refer to: “SFVAMC Supplemental Draft EIS” in any correspondence.

Written comments may also be submitted electronically to robin.flanagan@va.gov please reference “SFVAMC Supplemental Draft EIS” in any correspondence.

FOR FURTHER INFORMATION CONTACT: Robin Flanagan, San Francisco Veterans Affairs Medical Center, 4150 Clement Street, San Francisco, CA 94121 or by telephone, (415) 750-2049. The SFVAMC 2014 LRDP and SDEIS are available for viewing on the SFVAMC Web site: http://www.sanfrancisco.va.gov/planning.

SUPPLEMENTARY INFORMATION: VA operates the SFVAMC, located at Fort Miley in San Francisco, California. It is the only VA medical center in the City and County of San Francisco and VA considers it an aging facility that needs to be retrofitted and expanded.

Proposed Action

The SFVAMC has identified a need for retrofitting existing buildings to the most recent seismic safety requirements and for an additional 589,000 gross square feet (gsf) of medical facility space to meet the needs of San Francisco Bay Area and northern California coast Veterans over the next 15 years, in two phases.

Purpose and Need for Action

The purpose of the Proposed Action is to meet the Veterans Health Administration mission of providing comprehensive, high-quality health care services that improve the health and well-being of Veterans and other eligible persons in the San Francisco Bay Area and Northern California. VA's need for the Proposed Action is to address the area's current and future capacity issues brought about by the growing Veteran population, to better serve the ever-changing health care needs of the growing Veteran population, and to provide safe and appropriate facilities for providing health care services and conducting research.

SFVAMC has major space and parking deficiencies at its existing Fort Miley Campus. The SFVAMC mission is to continue to be a major primary and tertiary care medical center providing high-quality care to eligible Veterans in the San Francisco Bay Area and along the North Coast. SFVAMC strives to deliver needed care to Veterans while contributing to health care knowledge through research. SFVAMC is also a ready resource for Department of Defense backup, serving as a Federal Coordinating Center in the event of a national emergency. New construction initiatives would transform the Campus by providing seismic improvements and additional facility space. VA can meet its mission more effectively by integrating clinical care, education, and research, because such integration makes for more efficient and progressive overall care for Veterans.

Signing Authority

The Secretary of Veterans Affairs, or designee, approved this document and authorized the undersigned to sign and submit the document to the Office of the Federal Register for publication electronically as an official document of the Department of Veterans Affairs. Jose D. Riojas, Chief of Staff, approved this document on February 25, 2015 for publication.

Approved: March 5, 2015.
Michael Shores,
Regulation Policy and Management, Office of General Counsel.

[FR Doc. 2015-05507 Filed 3-6-15; 8:45 am]

BILLING CODE 8320-01-P